FEDERAL COMMUNICATIONS COMMISSION

47 CFR Part 54

[GN Docket No. 20-32; DA 25-172; FRS 283429]

Petitions for Reconsideration of Action in Rulemaking Proceeding

AGENCY: Federal Communications Commission.

ACTION: Petitions for reconsideration.

SUMMARY: Petitions for Reconsideration (Petitions) have been filed in the Commission's rulemaking proceeding by David A. LaFuria, on behalf of Coalition of Rural Wireless Carriers and by Carri Bennet, on behalf of the Rural Wireless Association, Inc.

DATES: Oppositions to a petition must be filed on or before March 31, 2025. Replies to an Opposition must be filed on or before April 8, 2025.

ADDRESSES: Federal Communications Commission, 45 L Street NE, Washington, DC 20554.

FOR FURTHER INFORMATION CONTACT: Valerie M. Barrish, Auctions Division, Office of Economics and Analytics, (202) 418-0660 or Valerie.Barrish@fcc.gov.

SUPPLEMENTARY INFORMATION: This is a summary of the Commission's document, DA 25-172, released February 26, 2025. The full text of the Petitions can be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: In the Matter of Establishing a 5G Fund for Rural America, Second Report and Order, Order on Reconsideration, FCC 20-150, published at 89 FR 101358, December 13, 2024, in GN Docket No. 20-32. This document is being published pursuant to 47 CFR 1.429(e). See also 47 CFR 1.4(b)(1) and 1.429(f), (g).

Subject: Part 54—Universal Service.

Number of Petitions Filed: 2.

Federal Communications Commission.
Marlene Dortch,
Secretary, Office of the Secretary.

[FR Doc. 2025-03750 Filed 3-13-25; 8:45 am]

BILLING CODE 6712-01-P